DEPARTMENT OF THE INTERIOR

National Park Service

Notice of Intent to Repatriate Cultural Items: Peabody Museum of Archaeology and Ethnology, Harvard University, Cambridge, MA

AGENCY: National Park Service, Interior.

ACTION: Notice.

Notice is here given in accordance with the Native American Graves Protection and Repatriation Act (NAGPRA), 25 U.S.C. 3005, of the intent to repatriate cultural items in the possession of the Peabody Museum of Archaeology and Ethnology, Harvard University, Cambridge, MA that meets the definition of “unassociated funerary objects” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

The four cultural items are three brass sheet fragments and one vial of shell and glass bead fragments.

In 1903, three cultural items were recovered from the Silverheels site in Brant, Erie County, NY, during a Peabody Museum of Archaeology and Ethnology expedition led by M.R. Harrington and A.C. Parker. Museum documentation indicates that the cultural items were interred with human remains. The human remains that were originally associated with these items were published in a Notice of Inventory Completion in the Federal Register on October 5, 2001 (FR Doc 01-24963; pages 51060-51062), and have since been transferred to the culturally affiliated groups. Therefore, the cultural items are now unassociated funerary objects. The three unassociated funerary objects are brass sheet fragments.

This interment most likely dates to the early Contact period (A.D. 1500-1700). Sheet brass was a European import item, and therefore indicates a post-contact date. In the Haudenosaunee region, objects of European brass are usually found on Native sites, which date to the second quarter of the 16th century and later. Other artifacts from this site which support an early Contact date include Levanna and Madison style projectile points; ceramic vessels with globular bodies, constricted zoned-incised necks, and castellated rims; and a variety of terra cotta pipes. Multi-variate attributes and statistical analysis of ceramic artifacts from the Silverheels site indicates the site represents a single occupation during the early 17th century.

In 1904, one cultural item was recovered from the Ripley Site in Ripley, Chautauqua County, NY, during a Peabody Museum of Archaeology and Ethnology expedition led by M.R. Harrington. Museum documentation indicates that this item was interred with human remains. The human remains that were originally associated with this item were published in a Notice of Inventory Completion in the Federal Register on October 5, 2001 (FR Doc 01-24963, pages 51060-51062), and have since been transferred to the culturally affiliated groups. Therefore, this cultural item is now an unassociated funerary object. The one unassociated funerary object is a vial of shell and glass bead fragments.

This interment most likely dates to the Late Woodland period (A.D. 1300-1450) or early Contact period (A.D. 1550-1650). Glass beads were introduced by Europeans as trade items in the late 16th/early 17th century. Artifacts from this site which support a Late Woodland period or later date include Levanna and Madison style projectile points; ceramic vessels with globular bodies, constricted zoned-incised necks, and castellated rims; and a variety of terra cotta pipes including trumpet shaped bowls and bowls with representations of human faces and animals. Radiocarbon dating indicates that the site is multi-component with occupations between A.D. 1300-1450 and A.D. 1550-1650.

Museum records and consultation evidence indicate that the cultural items were removed from specific burials of Native Americans. Consultation with representatives from the Iroquois suggests that Erie County and Chautauqua County, NY, were within the traditional territory of the Seneca Nation during the periods from which these interments date. Furthermore, due to a shared cultural identity among the member Nations of the Iroquois Confederacy, the Nations have requested that cultural affiliation be to all of the present-day Iroquois groups. Descendants of the Iroquois are members of the Cayuga Nation of New York; Oneida Nation of New York; Oneida Tribe of Indians of Wisconsin; Onondaga Nation of New York; Seneca Nation of New York; Seneca-Cayuga Tribe of Oklahoma; Saint Regis Mohawk Tribe, New York (formerly the St. Regis Band of Mohawk Indians of New York); Tonawanda Band of Seneca Indians of New York; and Tuscarora Nation of New York.

Officials of the Peabody Museum of Archaeology and Ethnology have determined that, pursuant to 25 U.S.C. 3001 (3)(B), the four cultural items described above are reasonably believed to have been placed with or near individual human remains at the time of death or later as part of the death rite or ceremony and are believed, by a preponderance of the evidence, to have been removed from a specific burial site of Native American individuals. Officials of the Peabody Museum of Archaeology and Ethnology also have determined that, pursuant to 25 U.S.C. 3001 (2), there is a relationship of shared group identity that can be reasonably traced between the unassociated funerary objects and the Cayuga Nation of New York; Oneida Nation of New York; Oneida Tribe of Indians of Wisconsin; Onondaga Nation of New York; Seneca Nation of New York; Seneca-Cayuga Tribe of Oklahoma; Saint Regis Mohawk Tribe, New York (formerly the St. Regis Band of Mohawk Indians of New York); Tonawanda Band of Seneca Indians of New York; and Tuscarora Nation of New York.

Representatives of any other Indian tribe that believes itself to be culturally affiliated with the unassociated funerary objects should contact Patricia Capone, Repatriation Coordinator, Peabody Museum of Archaeology and Ethnology, 11 Divinity Avenue, Cambridge, MA 02138, telephone (617) 496-3702, before September 24, 2007. Repatriation of the unassociated funerary objects to the Cayuga Nation of New York; Oneida Nation of New York; Oneida Tribe of Indians of Wisconsin; Onondaga Nation of New York; Seneca Nation of New York; Seneca-Cayuga Tribe of Oklahoma; Saint Regis Mohawk Tribe, New York (formerly the St. Regis Band of Mohawk Indians of New York); Tonawanda Band of Seneca Indians of New York; and Tuscarora Nation of New York may proceed after that date if no additional claimants come forward.

The Peabody Museum of Archaeology and Ethnology is responsible for notifying the Cayuga Nation of New York; Oneida Nation of New York; Oneida Tribe of Indians of Wisconsin; Onondaga Nation of New York; Seneca Nation of New York; Seneca-Cayuga Tribe of Oklahoma; Saint Regis Mohawk Tribe, New York (formerly the St. Regis Band of Mohawk Indians of New York); Tonawanda Band of Seneca Indians of New York; and Tuscarora Nation of New York that this notice has been published.

Dated: August 3, 2007
Sherry Hutt,
Manager, National NAGPRA Program.

[FR Doc. E7-16780 Filed 8-23-07; 8:45 am]

BILLING CODE 4312-50-S